DEPARTMENT OF AGRICULTURE

Federal Crop Insurance Corporation

[Docket ID No. FCIC-24-0001]

Notice of Request for Renewal and Revision of the Currently Approved Information Collection

AGENCY: Federal Crop Insurance Corporation, USDA.

ACTION: Renewal and revision of the currently approved information collection.

SUMMARY: This notice announces a public comment period on the information collection requests (ICRs) associated with the submission of policies, provisions of policies, rates of premium, and non-reinsured supplemental policies under section 508(h) of the Federal Crop Insurance Act.

DATES: We will accept comments on this notice until close of business April 15, 2024.

ADDRESSES: We invite you to submit comments on this information collection request. You may submit comments electronically through the Federal eRulemaking Portal: Go to http://www.regulations.gov and search for Docket ID No. FCIC-24-0001. Follow the instructions for submitting comments. Comments will be available for viewing online at regulations.gov.

FOR FURTHER INFORMATION CONTACT: Francie Tolle; telephone (816) 926-7829, email francie.tolle@usda.gov. Persons with disabilities who require alternative means of communication should contact the USDA Target Center at (202) 720-2600 (voice) or (844) 433-2774 (toll-free nationwide).

SUPPLEMENTARY INFORMATION:

Title: General Administrative Regulations; Subpart V—Submission of Policies, Provisions of Policies, Rates of Premium, and Non-Reinsured Supplemental Policies.

OMB Number: 0563-0064.

Expiration Date of Approval: May 31, 2024.

Type of Request: Extension of a currently approved information collection.

Abstract: The information collection requirements for this renewal package are necessary to administer subpart V which establishes guidelines for the submission of policies or other materials to the FCIC Board of Directors (Board) and identifies the required contents of a submission: the timing, review, and confidentiality requirements; reimbursement of research and development costs, maintenance costs, and user fees; and guidelines for non-reinsured supplemental policies. This data is used to administer the Federal crop insurance program in accordance with the Federal Crop Insurance Act, as amended.

FCIC is requesting the Office of Management and Budget (OMB) to extend the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond, through use, as appropriate, of automated, electronic, mechanical, and other collection technologies, e.g., permitting electronic submission of responses.

Estimate of Burden: The public reporting burden for this collection of information is estimated to average 326 hours per response.

Respondents/Affected Entities: Parties affected by the information collection requirements included in this Notice is a person (including an approved insurance provider, a college or university, a cooperative or trade association, or any other person) who prepares a submission, proposes to the Board other crop insurance policies, provisions of policies, or rates of premium, or submits to the Risk Management Agency (RMA) a non-reinsured supplemental policy.

Estimated annual number of respondents: 138.

Estimated annual number of responses per respondent: .69.

Estimated annual number of responses: 95.

Estimated total annual burden hours on respondents: 30,921.

All responses to this notice will be summarized and included in the request for OMB approval. All comments will also become a matter of public record.

Marcia Bunger,
Manager, Federal Crop Insurance Corporation.

[FR Doc. 2024-02991 Filed 2-13-24; 8:45 am]

BILLING CODE 3410-08-P